DEPARTMENT OF EDUCATION

Presidential Advisory Commission on Advancing Educational Equity, Excellence, and Economic Opportunity for Black Americans

AGENCY: White House Initiative on Advancing Educational Equity, Excellence, and Economic Opportunity for Black Americans, Office of the Secretary, Department of Education.

ACTION: Announcement of an open meeting.

SUMMARY: This notice sets forth the agenda for the April 4-5, 2024, open meeting of the Presidential Advisory Commission on Advancing Educational Equity, Excellence, and Economic Opportunity for Black Americans (PAC) and provides information to members of the public about how to attend the meeting and submit written comments related to the work of the PAC.

DATES: The PAC will meet on April 4, 2024, from 9:00 a.m. to 4:30 p.m. E.D.T. and on April 5, 2024, from 11 a.m. to 3:00 p.m.

ADDRESSES: The Laborer's District Council Training and Learning Center located at 1333 N Broad St., Philadelphia, PA 19122. The public may view the meeting virtually or attend in-person.

FOR FURTHER INFORMATION CONTACT: Monique Toussaint, Designated Federal Official, U.S. Department of Education, White House Initiative on Advancing Educational Equity, Excellence, and Economic Opportunity for Black Americans, 400 Maryland Avenue SW, Washington, DC 20202; telephone: (202) 260-0964, email: monique.toussaint@ed.gov.

SUPPLEMENTARY INFORMATION:

PAC's Statutory Authority and Function: The PAC is established by Executive Order 14050 (October 19, 2021) and is continued by Executive Order 14109 (September 29, 2023). The PAC is governed by the provisions of 5 U.S.C. chapter 10, which sets forth standards for the formation and use of advisory committees. The purpose of the PAC is to advise the President, through the Secretary of the U.S. Department of Education, on all matters pertaining to advancing educational equity, excellence, and economic opportunity for Black Americans and communities.

The PAC shall advise the President in the following areas: (i) what is needed for the development, implementation, and coordination of educational programs and initiatives at the Department and other agencies to improve educational opportunities and outcomes for Black Americans; (ii) how to promote career pathways for in-demand jobs for Black students, including registered apprenticeships, internships, fellowships, mentorships, and work-based learning initiatives; (iii) how to increase public awareness of and generate solutions for the educational and training challenges and equity disparities that Black Americans face and the causes of these challenges; and (iv) approaches to establish local and national partnerships with public, private, philanthropic, and nonprofit stakeholders to advance the mission and objectives of Executive Order 14050, consistent with applicable law. Notice of the meeting is required by 5 U.S.C. chapter 10 (Federal Advisory Committees) and is intended to notify the public of its opportunity to attend.

Meeting Agenda: On April 4, 2024, the meeting agenda will include welcome remarks; a discussion of the PAC's function and mission; voting on Commission business as needed; panels by subject matter experts on topics that reflect the priorities outlined in the Executive Order; and a group discussion. The public comment period will begin immediately following the conclusion of panel discussions Members of the public should follow the instructions below for submitting written comment and providing oral comment at the meeting. On April 5, 2024, the meeting agenda will include working group updates and presentations.

Access to the Meeting: An RSVP is required in order to attend the meeting in-person and/or virtually. Please RSVP at https://sites.ed.gov/whblackinitiative/our-commission/. RSVPs for both meeting days must be received by 5:00 p.m. E.D.T. on March 31, 2024. Members of the public that RSVP will get information on how to attend the meeting virtually or in-person as indicated on their registration.

Submission of written comments: The public may submit written comments pertaining to the work of the PAC no later than 5:00 p.m. E.D.T. on March 31, 2024. Members of the public who submit written comments prior to the deadline may read their comments during the public comment segment of the meeting on April 4, 2024. Written comments must be submitted via the registration site or to the whblackinitiative@ed.gov mailbox and include in the subject line “PAC Public Comment.” The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to the PAC members.

Access to Records of the Meeting: The Department will post the official report of the meeting on the Initiative's website no later than 90 days after the meeting. Pursuant to 5 U.S.C. 1009, the public may also inspect the meeting materials and other PAC records at 400 Maryland Avenue SW, Washington, DC, by emailing whblackinitiative@ed.gov to schedule an appointment.

Reasonable Accommodations: The meeting sites are accessible to individuals with disabilities. If you will need an auxiliary aid or service to participate in the meeting (e.g., interpreting service, assistive listening device, or materials in an alternate format), notify the contact person listed in this notice at least one week before the meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Presidential Executive Order 14050.

Alexis Barrett,
Chief of Staff, Office of the Secretary.

[FR Doc. 2024-05892 Filed 3-19-24; 8:45 am]

BILLING CODE 4000-01-P